DEPARTMENT OF COMMERCE

National Oceanic and Atmospheric Administration

50 CFR Part 648

[Docket No. 051104291-5350-02; I.D. 100405F]

RIN 0648 AT29

Fisheries of the Northeastern United States; Spiny Dogfish; Framework Adjustment 1; Establishing a Multiple-year Specifications Process

AGENCY: National Marine Fisheries Service (NMFS), National Oceanic and Atmospheric Administration (NOAA), Commerce.

ACTION: Final rule.

SUMMARY: NMFS announces the implementation of Framework Adjustment 1 (Framework 1) to the Spiny Dogfish Fishery Management Plan (FMP), which will allow the specification of commercial quotas and other management measures for up to 5 years. This framework adjustment is intended to improve management of the Northeast Atlantic stock of Spiny Dogfish.

DATES: Effective February 21, 2006.

ADDRESSES: Copies of Framework 1, the Regulatory Impact Review (RIR), Initial Regulatory Flexibility Analysis (IRFA), and other supporting documents are available from Daniel Furlong, Executive Director, Mid-Atlantic Fishery Management Council, Room 2115, Federal Building, 300 South Street, Dover, DE 19901-6790. The RIR/IRFA is also accessible via the Internet at http://www.nero.noaa.gov/nero/regs/com.html.

FOR FURTHER INFORMATION CONTACT: Eric Jay Dolin, Fishery Policy Analyst, (978) 281-9259, fax (978) 281-9135.

SUPPLEMENTARY INFORMATION:

Background

This framework adjustment to the FMP is intended to improve management of the Northeast Atlantic stock of spiny dogfish (Squalus acanthias), pursuant to the Magnuson-Stevens Fishery Conservation and Management Act (Magnuson-Stevens Act). Under the existing FMP, spiny dogfish are jointly managed by both the Mid-Atlantic and the New England Fishery Management Councils (Councils). The Councils recommend annual commercial quotas and other management measures (e.g., minimum or maximum fish sizes, seasons, mesh size restrictions, trip limits, or other gear restrictions), as needed, in order to ensure that the target fishing mortality rate (F) of 0.08 will not be exceeded. Implementing regulations for these fisheries are found at 50 CFR part 648, subpart L. Under the current FMP, the commercial quota and trip limits are specified annually and apply only to the following fishing year.

The Councils developed Framework 1, pursuant to § 648.237, in order to streamline the administrative and regulatory processes involved in specifying the fishing measures for spiny dogfish, while, at the same time, maintaining consistency with the Magnuson-Stevens Act. This action modifies the FMP so that, within a given year, the Councils could specify commercial quotas and other management measures necessary to ensure that the target F specified in the FMP will not be exceeded in each of the following 1 to 5 years. Implementation of Framework 1 provides the option, not the requirement, for Councils to specify multi-year management measures. All of the environmental and regulatory review procedures currently required under the Magnuson-Stevens Act and the National Environmental Policy Act will be conducted and documented during the year in which specifications are set. These analyses will consider impacts throughout the time span for which specifications are to be set (1 to 5 years). Multi-year quotas and other management measures would not have to be constant from year to year, but would instead be based upon expectations of future stock conditions as indicated by the best scientific information available at the time the multi-year specifications are set. Updated information on the resource and the fishery would be reviewed at least every 5 years by the Spiny Dogfish Monitoring Committee, the Joint Spiny Dogfish Committee, and the Councils. Adjustments to the management measures, once implemented, would not be expected to occur during the period of multi-year specifications. Nevertheless, if new information indicated that modification to the multi-year management measures is necessary to ensure that the target F is not exceeded, the Councils would initiate the process for setting specifications in order to make such modifications. Given the elimination of the annual review/management measure adjustment process under this action, environmental impact evaluation in the specification setting year would have to consider thoroughly the uncertainty associated with projected estimates of stock size in the 1 to 5 year time horizon. Accordingly, Council recommendations for multi-year management measures would have to be adequately conservative to accommodate this uncertainty.

Comments and Responses

One comment was received and it was outside the scope of this rulemaking.

Classification

The Regional Administrator had determined that the framework adjustment implemented by this final rule is necessary for the conservation and management of the spiny dogfish fishery and is consistent with the Magnuson-Stevens Act and other applicable law.

The final rule has been determined to be not significant for purposes of Executive Order 12866.

NMFS has prepared a FRFA pursuant to 5 U.S.C. 604(a). The FRFA incorporates the discussion that follows, the comments and responses to the proposed rule, and the initial regulatory flexibility analysis (IRFA) and other analyses completed in support of this action, which were summarized in the proposed rule (70 FR 72100, December 1, 2005). A copy of the IRFA is available from the Mid-Atlantic Fishery Management Council (see ADDRESSES).

There were 3,513 Federal dogfish permit holders in 2004. This action does not establish any management measures, rather it deals only with the period of time for which annual management measures will be established and, therefore, has no direct effect on entities participating in the fishery; accordingly, no steps could be taken to minimize impacts. No comments germane to the scope of this rulemaking were received on the IRFA or the economic impacts of the rule during the public comment period. There are no relevant Federal rules that duplicate, overlap, or conflict with this rule. This rule does not contain any new, nor does it revise any existing reporting, recordkeeping, and other compliance requirements.

List of Subjects in 50 CFR Part 648

Fishing, Fisheries, Reporting and recordkeeping requirements.

Dated: January 12, 2006.
James W. Balsiger,
Acting Deputy Assistant Administrator for Regulatory Programs, National Marine Fisheries Service.

For the reasons stated in the preamble, 50 CFR part 648 is amended as follows:

PART 648—FISHERIES OF THE NORTHEASTERN UNITED STATES

1. The authority citation for part 648 continues to read as follows:

Authority: 16 U.S.C. 1801 et seq.

2. Section 648.230 is revised to read as follows:

§ 648.230 Catch quotas and other restrictions.

(a) Process for setting specifications. The Spiny Dogfish Monitoring Committee will review the following data at least every 5 years, subject to availability, to determine the total allowable level of landings (TAL) and other restrictions necessary to assure that a target fishing mortality rate specified in the Spiny Dogfish Fishery Management Plan will not be exceeded in each year for which TAL and any other measures are recommended: Commercial and recreational catch data; current estimates of F; stock status; recent estimates of recruitment; virtual population analysis results; levels of noncompliance by fishermen or individual states; impact of size/mesh regulations; sea sampling data; impact of gear other than otter trawls and gill nets on the mortality of spiny dogfish; and any other relevant information.

(b) Recommended measures. Based on this review, the Spiny Dogfish Monitoring Committee shall recommend to the Joint Spiny Dogfish Committee a commercial quota and any other measures including those in paragraphs (b)(1)-(b)(5) of this section that are necessary to assure that the F specified in paragraph (a) of this section will not be exceeded in any fishing year (May 1-April 30), for a period of 1-5 fishing years. The quota may be set within the range of zero to the maximum allowed. The measures that may be recommended include, but are not limited to:

(1) Minimum or maximum fish sizes;

(2) Seasons;

(3) Mesh size restrictions;

(4) Trip limits; or

(5) Other gear restrictions.

(c) Joint Spiny Dogfish Committee recommendation. The Councils' Joint Spiny Dogfish Committee shall review the recommendations of the Spiny Dogfish Monitoring Committee. Based on these recommendations and any public comments, the Joint Spiny Dogfish Committee shall recommend to the Councils a commercial quota and, possibly, other measures, including those specified in paragraph (b) of this section, necessary to assure that the F specified in paragraph (a) of this section will not be exceeded in any fishing year (May 1-April 30), for a period of 1-5 fishing years. The commercial quota may be set within the range of zero to the maximum allowed.

(d) Council recommendations. The Councils shall review these recommendations and, based on the recommendations and any public comments, recommend to the Regional Administrator a commercial quota and other measures necessary to assure that the F specified in paragraph (a) of this section will not be exceeded in any fishing year (May 1-April 30), for a period of 1-5 fishing years. The Councils' recommendations must include supporting documentation, as appropriate, concerning the environmental, economic, and other impacts of the recommendations. The Regional Administrator shall initiate a review of these recommendations and may modify the recommended quota and other management measures to assure that the target F specified in paragraph (a) of this section will not be exceeded in any fishing year (May 1-April 30), for a period of 1-5 fishing years. The Regional Administrator may modify the Councils' recommendations using any of the measures that were not rejected by both Councils. After such review, NMFS shall publish a proposed rule in the Federal Register specifying a coastwide commercial quota and other measures necessary to assure that the F specified in paragraph (a) of this section will not be exceeded in any fishing year (May 1-April 30), for a period of 1-5 fishing years. After considering public comments, NMFS shall publish a final rule in the Federal Register to implement such a quota and other measures.

(e) [Reserved]

(f) Distribution of annual quota. (1) The annual quota specified according to the process outlined in paragraph (a) of this section shall be allocated between two semi-annual quota periods as follows: May 1 through October 31 (57.9 percent) and November 1 through April 30 (42.1 percent).

(2) All spiny dogfish landed for a commercial purpose in the states from Maine through Florida shall be applied against the applicable semi-annual commercial quota, regardless of where the spiny dogfish were harvested.

[FR Doc. 06-505 Filed 1-13-06; 3:41 pm]

BILLING CODE 3510-22-S